DEPARTMENT OF HEALTH AND HUMAN SERVICES

Meeting of the Chronic Fatigue Syndrome Advisory Committee

AGENCY: Office of the Assistant Secretary for Health, Department of Health and Human Services, Office of the Secretary.

ACTION: Notice.

SUMMARY: As required by the Federal Advisory Committee Act, the U.S. Department of Health and Human Services is hereby giving notice that a meeting of the Chronic Fatigue Syndrome Advisory Committee (CFSAC) will take place. This meeting will be open to the public.

DATES: Thursday, January 12, 2017, from 12:00 p.m. to 5:00 p.m. ET, and Friday, January 13, 2017, from 9:00 a.m. to 5:00 p.m. ET.

ADDRESSES: Individuals may attend this meeting in person and/or by utilizing virtual technology. Information for in-person attendance will be posted on the CFSAC Web site, http://www.hhs.gov/ash/advisory-committees/cfsac/meetings/index.html. Registration is required for in-person attendance. Information on the procedure to follow for registration will be included on the CFSAC Web site. For individuals wishing to attend the meeting virtually, a webinar will be offered. Information about accessing the webinar will be included on the CFSAC Web site.

FOR FURTHER INFORMATION CONTACT: Gustavo Seinos, MPH, Designated Federal Officer, Chronic Fatigue Syndrome Advisory Committee, Department of Health and Human Services, 200 Independence Avenue SW., Room 712E, Washington, DC 20201. Please direct all inquiries to cfsac@hhs.gov.

SUPPLEMENTARY INFORMATION: The CFSAC is authorized under 42 U.S.C. 217a, Section 222 of the Public Health Service Act, as amended. The purpose of the CFSAC is to provide advice and recommendations to the Secretary of Health and Human Services, through the Assistant Secretary for Health on topics related to myalgic encephalomyelitis/chronic fatigue syndrome (ME/CFS). The issues can include factors affecting access and care for persons with ME/CFS; the science and definition of ME/CFS; and broader public health, clinical, research, and educational issues related to ME/CFS.

The agenda for this meeting, call-in information, and location will be posted on the CFSAC Web site http://www.hhs.gov/ash/advisory-committees/cfsac/meetings/index.html.

Thirty minutes will be allotted for public comment via telephone or in person on each day of the meeting. Each individual will have three minutes to present their comments. Priority will be given to individuals who have not provided public comment within the previous year. We are unable to place international calls for public comments. Individuals are required to register to participate in the public comment sessions. To request a time slot for public comment, please send an email to cfsac@hhs.gov by January 5, 2017. The email should contain the speaker's name and the telephone number at which the speaker can be reached for the public comment session.

Individuals who would like for their testimony to be provided to the Committee members should submit a copy of the testimony prior to the meeting. It is preferred, but not required, that the submitted testimony be prepared in digital format and typed using a 12-pitch font. Copies of the written comment must not exceed 5 single-space pages, and it is preferred, but not required that the document be prepared in the MS Word format. Please note that PDF files, charts, and photographs cannot be accepted. Materials submitted should not include sensitive personal information, such as Social Security number, birthdate, driver's license number, passport number, financial account number, or credit or debit card number. If you wish to remain anonymous, then document must specify this.

The Committee welcomes input on any topic related to ME/CFS.

Gustavo Seinos,
Designated Federal Officer, CDR, USPHS.

[FR Doc. 2016-28723 Filed 11-28-16; 8:45 am]

BILLING CODE 4150-42-P